NUCLEAR REGULATORY COMMISSION

Agency Information Collection Activities: Proposed Collection; Comment Request

AGENCY: U.S. Nuclear Regulatory Commission (NRC).

ACTION: Notice of pending NRC action to submit an information collection request to the Office of Management and Budget (OMB) and solicitation of public comment.

SUMMARY: The NRC is preparing a submittal to OMB for review of continued approval of information collections under the provisions of the Paperwork Reduction Act of 1995 (44 U.S.C. Chapter 35).

1. The title of the information collection: 48 CFR 20, U.S. Nuclear Regulatory Commission Acquisition Regulation (NRCAR).

2. Current OMB control number: 3150-0169.

3. How often the collection is required: on occasion; one time.

4. Who is required or asked to respond: There are 355 potential contractors who could respond to NRC solicitations.

5. The number of annual responses: 3,482 annually from 355 respondents.

6. The number of hours needed annually to complete the requirement or request: There is both a reporting and recordkeeping burden associated with this collection. The NRC estimates there will be 3,482 report submissions amounting to 25,462 burden hours annually. The annual recordkeeping burden is estimated to be 633 hours for 65 respondents. This amounts to an overall annual burden of 26,095 hours.

7. Abstract: The mandatory requirements of the NRCAR implement and supplement the government-wide Federal Acquisition Regulation (FAR), and ensure that the regulations governing the procurement of goods and services within the NRC satisfy the particular needs of the agency. Because of differing statutory authorities among Federal agencies, the FAR authorizes agencies to issue regulations to implement FAR policies and procedures internally and to include additional policies and procedures, solicitation provisions or contract clauses to satisfy the specific need of the agency.

Submit, by May 16, 2008, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Margaret A. Janney (T-5 F52), U.S. Nuclear Regulatory Commission, Washington, DC 20555-0001, by telephone at 301-415-7245, or by email to INFOCOLLECTS@NRC.GOV.

Dated at Rockville, Maryland, this 11th day of March, 2008.
For the Nuclear Regulatory Commission;
Gregory Trussell,
Acting NRC Clearance Officer, Office of Information Services.

[FR Doc. E8-5264 Filed 3-14-08; 8:45 am]

BILLING CODE 7590-01-P